DEPARTMENT OF TRANSPORTATION

Federal Aviation Administration

Notice of Intent To Rule on Application To Impose and Use the Revenue from a Passenger Facility Charge (PFC) at Luis Muñoz Marin International Airport, San Juan, PR

AGENCY: Federal Aviation Administration (FAA), DOT.

ACTION: Notice of intent to rule on application.

SUMMARY: The FAA proposes to rule and invites public comment on the application to impose and use the revenue from a PFC at Luis Muñoz Marin International Airport under the provisions of the Aviation Safety and Capacity Expansion Act of 1990 (Title IX of the Omnibus Budget Reconciliation Act of 1990) (Public Law 101-508) and Part 158 of the Federal Aviation Regulations (14 CFR Part 158).

DATES: Comments must be received on or before April 17, 2000.

ADDRESSES: Comments on this application may be mailed or delivered in triplicate to the FAA at the following address: Orlando Airports District Office, 5950 Hazeltine National Dr., Suite 400, Orlando, FL 32822-5024.

In addition, one copy of any comments submitted to the FAA must be mailed or delivered to Virgilio Acevedo, P.E., Assistant Executive Director for Engineering, Planning and Development of the Puerto Rico Ports Authority at the following address: P.O. Box 362829, San Juan, Puerto Rico 00936-2829.

Air carriers and foreign air carriers may submit copies of written comments previously provided to the Puerto Rico Ports Authority under section 158.23 of Part 158.

FOR FURTHER INFORMATION CONTACT: Ilia Quinones, Program Manager, Orlando Airports District Office, 5950 Hazeltine National Dr., Suite 400, Orlando, FL 32822-5024, 407-812-6331 extension 30. The application may be reviewed in person at this same location.

SUPPLEMENTARY INFORMATION: The FAA proposes to rule and invites public comment on the application to impose and use the revenue from a PFC at Luis Muñoz Marin International Airport under the provisions of the Aviation Safety and Capacity Expansion Act of 1990 (Title IX of the Omnibus Budget Reconciliation Act of 1990) (Public Law 101-508) and Part 158 of the Federal Aviation Regulations (14 CFR Part 158).

On March 13, 2000, the FAA determined that the application to impose and use the revenue from a PFC submitted by the Puerto Rico Ports Authority was substantially complete within the requirements of section 158.25 of Part 158. The FAA will approve or disapprove the application, in whole or in part, no later than June 14, 2000.

The following is a brief overview of the application.

PFC Application No.: 00-04-C-00-SJU.

Level of the proposed PFC: $3.00.

Proposed charge effective date: November 1, 2002.

Proposed charge expiration date: January 1, 2011.

Total estimated net PFC revenue: $101,154,000.

Brief description of proposed project(s):

Development of Utilities Master Plan, SJU

Preliminary Engineering Dual Midfield Taxiway, SJU

EA for Improving the Runway Safety Area Rwy 26, SJU

Y2K Improvements to 107 Access Control, SJU

Acquire Two Runway Sweepers, SJU

Design & Install Terminal/Airfield Signs, SJU

Design and Build an ARFF Facility, SJU

Construct Dual Mid-Field Twy, SJU

Construct Standard Safety Area RWY 26, SJU

Design Extension TWY Sierra, SJU

Master Plan (ALP), SIG

Design/Construction Apron Expansion, X63

Installation of AWOS, BQN

Relocation of Taxiway A, BQN

Preliminary Engineering Rwy Reconstruction, BQN

Final Design Rwy Reconstruction, BQN

Reconstruct Rwy, BQN

Y2K Improvement to 107 access control, BQN

Obstruction Removal; Treshold Relocation, VQS

Install Airport Signage (Design/Construct.), PSE

Acquire. Jaws of Life & Safety Equipment, PSE

Y2K Improvements 107 access control, PSE

Acquire. Rwy Sweeper, PSE

Install Loading Bridges, PSE

Reconstruct Twy Light System, PSE

Improve Rwy 12 Safety Area, PSE

Reconstruct Terminal Apron, PSE

Reconstruct Rwy & Twy Connectors, PSE

Widen Rwy, Construct Apron, Extend Twy, CPX

Cargo Access Road, SJU

Construct New GA facilities, SJU

Class or classes of air carriers which the public agency has requested not be required to collect PFCs: NONE.

Any person may inspect the application in person at the FAA office listed above under FOR FURTHER INFORMATION CONTACT.

In addition, any person may, upon request, inspect the application, notice and other documents germane to the application in person at the Puerto Rico Ports Authority.

Issued in Orlando, Florida on March 13, 2000.
John W. Reynolds, Jr.,
Acting Manager, Orlando Airports District Office, Southern Region.

[FR Doc. 00-6701 Filed 3-16-00; 8:45 am]

BILLING CODE 4910-13-M